DEPARTMENT OF ENERGY

Energy Information Administration

Agency Information Collection Under Review by the Office of Management and Budget

AGENCY: Energy Information Administration, Department of Energy.

ACTION: Submission for OMB review; comment request.

SUMMARY: The Energy Information Administration (EIA) has submitted the energy information collection listed at the end of this notice to the Office of Management and Budget (OMB) for review under sections 3507 (h)(1) and 3506(c) of the Paperwork Reduction Act of 1995 (Pub. L. 104-13).

Each entry contains the following information: (1) The collection number and title; (2) a summary of the collection of information (includes the sponsor which is the Department of Energy component), current OMB document number (if applicable), type of request (new, revision, extension, or reinstatement), response obligation (mandatory, voluntary, or required to obtain or retain benefits); (3) a description of the need and proposed use of the information; (4) a description of the likely respondents; and (5) an estimate of the total annual reporting burden (i.e., the estimated number of likely respondents times the proposed frequency of response per year times the average hours per response).

DATES: Comments must be filed on or before June 5, 2000. If you anticipate that you will be submitting comments but find it difficult to do so within the time allowed by this notice, you should advise the OMB DOE Desk Officer listed below of your intention to do so as soon as possible. The OMB DOE Desk Officer may be telephoned at (202) 395-3084. (Also, please notify the EIA contact listed below.)

ADDRESSES: Address comments to the Department of Energy Desk Officer, Office of Information and Regulatory Affairs, Office of Management and Budget, 726 Jackson Place, NW, Washington, DC 20503. (Comments should also be addressed to the Statistics and Methods Group at the address below.)

FOR FURTHER INFORMATION CONTACT: Requests for additional information should be directed to Herbert Miller, Statistics and Methods Group, (EI-70), Forrestal Building, U.S. Department of Energy, Washington, DC 20585. Mr. Miller may be contacted by telephone at (202) 426-1103, FAX at (202) 426-1081, or e-mail at Herbert.Miller@eia.doe.gov.

SUPPLEMENTARY INFORMATION: The energy information collection submitted to OMB for review was:

1. EIA-902, “Annual Geothermal Heat Pump Manufacturers Survey.”

2. Energy Efficiency and Renewable Energy; OMB Number 1901-0303; Three-Year Extension; Mandatory.

3. EIA-902 is designed to collect information on the emerging domestic geothermal heat pump industry. The economics of geothermal heat pumps have improved in recent years and the pumps are more competitive with conventional heating, cooling, and water heating systems. Data collected will be from U.S. geothermal heat pump manufacturers. The data will be used by DOE, the heat pump industry, and the public. The data will also be published.

4. Business or other for-profit.

5. 160 hours (4 hours × 1 response per year × 40 respondents).

Statutory Authority: Sections 3507(h)(1) and 3506(c) of the Paperwork Reduction Act of 1995 (Pub. L. No. 104-13).

Issued in Washington, DC, May 1, 2000.
Stanley R. Freedman,
Acting Director, Statistics and Methods Group, Energy Information Administration.

[FR Doc. 00-11249 Filed 5-4-00; 8:45 am]

BILLING CODE 6450-01-P